FEDERAL MARITIME COMMISSION

Ocean Transportation Intermediary License Revocations

The Commission gives notice that the following Ocean Transportation Intermediary licenses have been revoked pursuant to section 19 of the Shipping Act of 1984 (46 U.S.C. 40101) effective on the date shown.

License No.: 2078F.

Name: Ambassador Brokers, Inc.

Address: 40 Pearl Street, Braintree, MA 02184.

Date Revoked: March 27, 2013.

Reason: Failed to maintain a valid bond.

License No.: 003445F.

Name: Nedlloyd Logistics, Inc.

Address: Giralda Farms, Madison Avenue, Madison, NJ 07940.

Date Revoked: March 29, 2013.

Reason: Failed to maintain a valid bond.

License No.: 3677F.

Name: Super Cargo International Services, Inc.

Address: 5519 NW 72nd Avenue, Miami, FL 33166.

Date Revoked: March 22, 2013.

Reason: Failed to maintain a valid bond.

License No.: 16761NF.

Name: Transunion America, Inc.

Address: 20 West Lincoln Avenue, Suite 206, Valley Stream, NY 11580.

Date Revoked: March 24, 2013.

Reason: Failed to maintain valid bonds.

License No.: 018413N.

Name: Chicago Int'l Forwarder Incorporated.

Address: 301 Oliver Court, Westmont, IL 60559.

Date Revoked: March 24, 2013.

Reason: Failed to maintain a valid bond.

License No.: 018798N.

Name: Beyond Shipping, Inc.

Address: 4030 Valley Blvd., Suite 106, Walnut, CA 91789.

Date Revoked: March 31, 2013.

Reason: Failed to maintain a valid bond.

License No.: 018824N.

Name: Christopher Onyekwere dba Maritime Services.

Address: 3639 Campfield Court, Katy, TX 77449.

Date Revoked: March 24, 2013.

Reason: Failed to maintain a valid bond.

License No.: 018839N.

Name: Aliana Express, Inc.

Address: 11100 E. Artesia Blvd., Suite H, Cerritos, CA 90703.

Date Revoked: March 24, 2013.

Reason: Failed to maintain a valid bond.

License No.: 020337F.

Name: WTG Logistics, Inc. dba WTG International.

Address: 140 Epping Road, Exeter, NH 03833.

Date Revoked: March 27, 2013.

Reason: Failed to maintain a valid bond.

License No.: 020734NF.

Name: Sil, LLC. dba Air Ocean USA, LLC. dba Superior International Logistics

Address: 4471 NW 36th Street, Suite 240, Miami Springs, FL 33166.

Date Revoked: February 28, 2013.

Reason: Failed to maintain valid bonds.

License No.: 020953N.

Name: Gold Cargo Freight, Corp.

Address: 8233 NW 68th Street, Miami, FL 33166.

Date Revoked: March 21, 2013.

Reason: Failed to maintain a valid bond.

License No.: 021083N.

Name: Jeepney Express Padala, Inc. dba Jeepney Express dba Kalesa Express dba Victory Cargo.

Address: 2647 West Woodland Drive, Anaheim, CA 92801.

Date Revoked: March 24, 2013.

Reason: Failed to maintain a valid bond.

License No.: 021170NF.

Name: Ocean Star Logistics Inc.

Address: 428 S. Atlantic Blvd., Suite 203, Monterey Park, CA 91754.

Date Revoked: March 24, 2013.

Reason: Failed to maintain valid bonds.

License No.: 021305N.

Name: PJC Freightways, Inc.

Address: 7900 NW 68th Street, Miami, FL 33166.

Date Revoked: March 18, 2013.

Reason: Failed to maintain a valid bond.

License No.: 021440N.

Name: Coreana Express (Sea-Tac) Inc.

Address: 6858 South 220th Street, Kent, WA 98032.

Date Revoked: March 24, 2013.

Reason: Failed to maintain a valid bond.

License No.: 021707N.

Name: Seamen Freight Logistics, Inc.

Address: 155-06 South Conduit Avenue, Suite 203-A, Jamaica, NY 11434.

Date Revoked: March 29, 2013.

Reason: Failed to maintain a valid bond.

License No.: 023628F.

Name: Global Cargo Connection, Inc.

Address: 2775 W. Okeechobee Road, Lot 146, Hialeah, FL 33010.

Date Revoked: March 22, 2013.

Reason: Failed to maintain a valid bond.

James A. Nussbaumer,
Deputy Director, Bureau of Certification and Licensing.

[FR Doc. 2013-09063 Filed 4-17-13; 8:45 am]

BILLING CODE 6730-01-P